DEPARTMENT OF TRANSPORTATION

Federal Aviation Administration

Noise Exposure Map Notice, Memphis International Airport, Memphis, TN

AGENCY: Federal Aviation Administration, DOT.

ACTION: Notice.

SUMMARY: The Federal Aviation Administration (FAA) announces its determination that the Noise Exposure Maps submitted by Memphis-Shelby County Airport Authority for Memphis International Airport under the provisions of 49 U.S.C. 47501 et. seq. (Aviation Safety and Noise Abatement Act) and 14 CFR part 150 are in compliance with applicable requirements.

DATES: The effective date of the FAA's determination on the noise exposure maps is September 1, 2015.

FOR FURTHER INFORMATION CONTACT: Phillip J. Braden, Federal Aviation Administration, Memphis Airports District Office, 2600 Thousand Oaks Blvd., Suite 2250, Memphis, Tennessee 38118, 901-322-8181.

SUPPLEMENTARY INFORMATION: This notice announces that the FAA finds that the Noise Exposure Maps submitted for Memphis International Airport are in compliance with applicable requirements of Title 14 Code of Federal Regulations (CFR) Part 150, effective September 1, 2015. Under 49 U.S.C. 47503 of the Aviation Safety and Noise Abatement Act (the Act), an airport operator may submit to the FAA Noise Exposure Maps which meet applicable regulations and which depict noncompatible land uses as of the date of submission of such maps, a description of projected aircraft operations, and the ways in which such operations will affect such maps. The Act requires such maps to be developed in consultation with interested and affected parties in the local community, government agencies, and persons using the airport. An airport operator who has submitted Noise Exposure Maps that are found by FAA to be in compliance with the requirements of 14 CFR part 150, promulgated pursuant to the Act, may submit a Noise Compatibility Program for FAA approval which sets forth the measures the airport operator has taken or proposes to take to reduce existing noncompatible uses and prevent the introduction of additional noncompatible uses.

The FAA has completed its review of the Noise Exposure Maps and accompanying documentation submitted by Memphis-Shelby County Airport Authority. The documentation that constitutes the “Noise Exposure Maps” as defined in Section 150.7 of 14 CFR part 150 includes: ” Figure 2.1, Study Area Boundaries And Jurisdictions; Figure 2.2, Land Use In Memphis And Shelby County; Figure 2.3, City of Southhaven Existing Land Use; Figure 2.4, City of Southhaven Noise Abatement Zone; Figure 2.5, City of Southhaven Future Land Use Plan; Figure 2.6, City of Southaven Proposed Land Use For Area 2; Figure 2.7, City of Horn Lake Proposed Land Use Map; Figure 2.8, Desoto County Existing Land Use Map; Figure 2.9, Desoto County Future Land Use Map; Figure 2.10, Noise Sensitive Sites; Figure 2.11, Mitigated Properties; Figure 3.1, Vicinity Map; Figure 3.2, Airport Diagram; Figure 3.3, Memphis Airspace; Figure 3.4, Daytime/Nightime Distribution By Aircraft Type; Figure 3.5, Overall Runway Utilization; Figure 3.6, North/East Flow Departures; Figure 3.7, North/East Arrivals; Figure 3.8, South/West Flow Departures; Figure 3.9, South/West Flow Arrivals; Figure 3.10, Military Flight Tracks; Figure 3.11, Helicopter Flight Tracks; Figure 3.12, Run-Up Locations; Figure 3.13 Protected Areas and Departure Tracks; Figure 4.1, Noise Monitoring Locations; Figure 4.2, 2013 Existing Contour Noise Exposure Map; Figure 4.3, Existing Condition NEM With Noise-Sensitive Sites; Figure 4.4, 2013 Existing Condition NEM With Mitigated Properties; Figure 4.5, 2013 Existing Condition NEM With Noncompatible Land Uses; Figure 5.1, Run-Up Locations; Figure 5.2, North/East Flow Flight Tracks; Figure 5.3, South/West Flow Flight Tracks; Figure 5.4, 2020 Future Condition Noise Exposure Map; Figure 5.5, Proposed Fedex Run-Up Location Noise Impacts; Figure 5.6, 2020 Future Condition NEM With Noise-Sensitive Sites; Figure 5.7, 2020 Future Condition NEM With Mitigated Properties; Figure 5.8, 2020 Future Condition NEM With Noncompatible Land Uses. The FAA has determined that these Noise Exposure Maps and accompanying documentation are in compliance with applicable requirements. This determination is effective on September 1, 2015.

FAA's determination on the airport operator's Noise Exposure Maps is limited to a finding that the maps were developed in accordance with the procedures contained in Appendix A of 14 CFR part 150. Such determination does not constitute approval of the airport operator's data, information or plans, or a commitment to approve a Noise Compatibility Program or to fund the implementation of that Program. If questions arise concerning the precise relationship of specific properties to noise exposure contours depicted on a Noise Exposure Map submitted under Section 47503 of the Act, it should be noted that the FAA is not involved in any way in determining the relative locations of specific properties with regard to the depicted noise exposure contours, or in interpreting the Noise Exposure Maps to resolve questions concerning, for example, which properties should be covered by the provisions of Section 47506 of the Act. These functions are inseparable from the ultimate land use control and planning responsibilities of local government. These local responsibilities are not changed in any way under 14 CFR part 150 or through FAA's review of Noise Exposure Maps. Therefore, the responsibility for the detailed overlaying of noise exposure contours onto the map depicting properties on the surface rests exclusively with the airport operator that submitted those maps, or with those public agencies and planning agencies with which consultation is required under Section 47503 of the Act. The FAA has relied on the certification by the airport operator, under Section 150.21 of 14 CFR part 150, that the statutorily required consultation has been accomplished.

Copies of the full Noise Exposure Maps documentation and of the FAA's evaluation of the maps are available for examination at the following locations: Federal Aviation Administration, Memphis Airports District Office, 2600 Thousand Oaks Boulevard, Suite 2250, Memphis, Tennessee 38118.

Questions may be directed to the individual named above under the heading, FOR FURTHER INFORMATION CONTACT.

Issued in Memphis, Tennessee, on September 1, 2015.
Phillip J. Braden,
Manager, Memphis Airports District Office.

[FR Doc. 2015-22825 Filed 9-9-15; 8:45 am]

BILLING CODE 4910-13-P